FEDERAL COMMUNICATIONS COMMISSION

Notice of Public Information Collection(s) Being Reviewed by the Federal Communications Commission for Extension Under Delegated Authority

March 1, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 9, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-0404.

Title: Application for an FM Translator or FM Booster Station License.

Form Number: FCC Form 350.

Type of Review: Extension of a currently approved collection.

Respondents: Business or other for-profit entities; Not-for-profit institutions; State, local or tribal Government.

Number of Respondents: 350.

Estimated Time per Response: 1 hour.

Frequency of Response: On occasion reporting requirement.

Total Annual Burden: 350 hours.

Total Annual Cost: $26,250.

Privacy Impact Assessment: No impact(s).

Needs and Uses: Licensees and permittees of FM Translator or FM Booster stations are required to file FCC Form 350 to obtain a new or modified station license. The data is used by FCC staff to confirm that the station has been built to terms specified in the outstanding construction permit. Data is then extracted from FCC Form 350 for inclusion in the subsequent license to operate the station.

OMB Control Number: 3060-0407.

Title: Section 73.3598, Period of Construction.

Form Number: Not applicable.

Type of Review: Extension of a currently approved collection.

Respondents: Business or other for-profit entities; Not-for-profit institutions.

Number of Respondents: 80.

Estimated Time per Response: 0.75-3.0 hours.

Frequency of Response: On occasion reporting requirement.

Total Annual Burden: 120 hours.

Total Annual Cost: $6,000.

Privacy Impact Assessment: No impact(s).

Needs and Uses: When a permit is subject to tolling because construction is encumbered due to an act of God, or when a construction permit is the subject of administrative or judicial review, 47 CFR 73.3598(c) requires a permittee to notify the Commission as promptly as possible and, in any event, within 30 days, and to provide supporting documentation. In cases where the duration of the tolling event are not known at the time that tolling is granted, Section 73.3598(d) requires the permittee to notify the Commission promptly when a relevant administrative or judicial review is resolved and/or report progress at six month intervals. Section 73.3598 (e) requires any construction permit for which construction has not been completed shall be automatically forfeited upon expiration of the construction permit. The data is used by FCC staff to ensure that legitimate obstacles are preventing permittees from the construction of broadcast facilities.

OMB Control Number: 3060-0638.

Title: Section 76.934(g), Alternative Rate Regulation Agreements.

Form Number: Not applicable.

Type of Review: Extension of a currently approved collection.

Respondents: Business or other for-profit entities.

Number of Respondents: 100.

Estimated Time per Response: .50 hours.

Frequency of Response: On occasion reporting requirement; Third party disclosure requirement.

Total Annual Burden: 50 hours.

Total Annual Cost: None.

Privacy Impact Assessment: No impact(s).

Needs and Uses: This rule requires that local franchising authorities, certified pursuant to 47 CFR 76.910, and small systems operated by small cable companies may enter into an alternative rate regulation agreements affecting the basic service tier and the cable programming service tier. Small systems must file with the Commission a copy of the operative alternative agreement within 30 days after its effective date. Alternative rate regulation agreements are filed with the Commission so that verification can be made the such agreements have been entered into and executed pursuant to the Commission rules.

OMB Control Number: 3060-0644.

Title: Establishing Maximum Permitted Rates for Regulated Cable Services on Small Cable Systems.

Form Number: FCC Form 1230.

Type of Review: Extension of a currently approved collection.

Respondents: Business or other for-profit entities; State, local or tribal government.

Number of Respondents: 5.

Estimated Time per Response: 2.25 hours.

Frequency of Response: On occasion reporting requirement; Third party disclosure requirement.

Total Annual Burden: 11.25 hours.

Total Annual Cost: None.

Privacy Impact Assessment: No impact(s).

Needs and Uses: On May 5, 1995, the Commission adopted rules that allow a small cable system owned by a small cable company to use a simplified cost-of-service procedure to set its maximum permitted rate. Pursuant to these rules, a cable system is eligible to set its maximum permitted rate with the FCC Form 1230 if it is a system with 15,000 or fewer subscribers, and it is not owned by a cable company with more than 400,000 subscribers. The data collected is used by the Commission and local franchise authorities to determine whether cable rates for basic service, cable programming service, and associated equipment are reasonable under Commission regulations.

OMB Control Number: 3060-1001.

Title: Application for Extension of Time to Construct a Digital Television Broadcast Station.

Form Number: FCC Form 337.

Type of Review: Extension of a currently approved collection.

Respondents: Business or other for-profit entities; Not-for-profit institutions.

Number of Respondents: 300.

Estimated Time per Response: 0.5-4 hours.

Frequency of Response: Recordkeeping requirement; On occasion reporting requirement.

Total Annual Burden: 250 hours.

Total Annual Cost: $150,000.

Privacy Impact Assessment: No impact(s).

Needs and Uses: FCC Form 337 will be used by Digital Television (DTV) permittees to apply for an extension of time within which to construct a DTV broadcast station. Applicants must retain documentation fully detailing and supporting the representations made in the FCC Form 337. The extension request is used by FCC staff to determine whether a broadcaster should be afforded additional time to construct its facilities. Additionally, applicants choosing to request special temporary authority to commence digital operation must specify the technical facilities and certify that the facilities are in compliance with FCC rules. The data is used by FCC staff to determine whether a broadcaster's operation is consistent with allotted parameters.

Federal Communications Commission.
Marlene H. Dortch,
Secretary.

[FR Doc. 05-4597 Filed 3-8-05; 8:45 am]

BILLING CODE 6712-10-P